DEPARTMENT OF ENERGY

Federal Energy Regulatory Commission

[Docket No. CP07-444-000; Docket No. CP07-441-000]

Jordan Cove Energy Project, LP; Pacific Connector Gas Pipeline, LP; Notice of Availability of the Final Environmental Impact Statement for the Proposed Jordan Cove LNG Terminal and Pacific Connector Gas Pipeline Project

May 1, 2009.

The staff of the Federal Energy Regulatory Commission (FERC or Commission) has prepared a final Environmental Impact Statement (EIS) for the construction and operation of the liquefied natural gas (LNG) import terminal and natural gas pipeline facilities proposed by Jordan Cove Energy Project, LP (Jordan Cove) and Pacific Connector Gas Pipeline, LP (Pacific Connector) in the above-referenced dockets. We ¹ call this the Jordan Cove Energy and Pacific Connector Pipeline (JCE & PCGP) Project, or simply the Project. The JCE & PCGP Project facilities would be located in Coos, Douglas, Jackson, and Klamath Counties, Oregon.

¹ The pronouns “we,” “us,” or “our” refer to the environmental staff of the FERC's Office of Energy Projects.

The final EIS was prepared to satisfy the requirements of the National Environmental Policy Act (NEPA). The United States (U.S.) Department of Agriculture Forest Service, U.S. Army Corps of Engineers, U.S. Environmental Protection Agency, U.S. Department of Homeland Security Coast Guard, Pipeline and Hazardous Materials Safety Administration of the U.S. Department of Transportation, U.S. Department of the Interior Bureau of Land Management, Bureau of Reclamation, and Fish and Wildlife Service, and Douglas County, Oregon, are cooperating agencies for the development of this EIS. A cooperating agency has jurisdiction by law or special expertise with respect to potential environmental impacts associated with the proposal and is involved in the NEPA analysis.

Based on the analysis included in the final EIS, the FERC staff concludes that the proposed action would have limited adverse environmental impacts. However, if the Project is constructed and operated in accordance with applicable laws and regulations, and with implementation of Jordan Cove's and Pacific Connector's proposed mitigation measures, and the additional mitigation measures recommended by staff, environmental impacts would be substantially reduced.

The purpose of the Project is to provide a new import access point for overseas LNG and provide a new source of natural gas to markets in the Pacific Northwest, northern Nevada, and northern California. Jordan Cove would off-load and store the LNG in specially designed tanks at its terminal, vaporize the LNG back into natural gas, and provide up to 1.0 billion cubic feet per day of natural gas to the region through the Pacific Connector sendout pipeline and interconnections with existing natural gas pipeline systems.

The final EIS addresses the potential environmental effects associated with the construction and operation of the facilities listed below. The Project would include LNG marine traffic into U.S. territorial waters and transit in the waterway to Jordan Cove's proposed LNG import terminal. The terminal would be located on the bay side of the North Spit of Coos Bay, at about Channel Mile 7.5 up the existing Coos Bay navigation channel, in Coos County, Oregon. Jordan Cove's proposed facilities would include:

• An access channel from the existing Coos Bay navigation channel, and a slip;

• LNG unloading berth and transfer pipeline;

• 2 full-containment LNG storage tanks, each with a capacity 160,000 m³ (or 1,006,000 barrels);

• Vapor handling system, and vaporization equipment capable of regasifying the LNG for delivery into the natural gas sendout pipeline;

• Piping, ancillary buildings, safety systems, and other support facilities;

• A natural gas liquids (NGL) extraction facility, with the NGL to be sold to an entity other than Jordan Cove and likely transported from the terminal using existing railroad lines;

• A 37-megawatt, natural gas-fired, simple-cycle combustion turbine powerplant to provide electric power for the LNG terminal; and

• Disposal areas for the storage of excavated and dredged materials resulting from the construction of the access channel and slip.

Pacific Connector's pipeline would extend from the Jordan Cove LNG terminal southeast across Coos, Douglas, Jackson, and Klamath Counties Oregon, to its terminus near Malin, including interconnections with Avista Corporation, Williams Northwest Pipeline Corporation (Williams Northwest), Gas Transmission Northwest Corporation, Tuscarora Gas Transmission Company, and Pacific Gas and Electric Company. The facilities proposed by Pacific Connector would include:

• A 234-mile-long, 36-inch-diameter welded steel underground natural gas pipeline;

• A natural gas compressor station at Butte Falls, in Jackson County, consisting of two new 10,310-horsepower (hp) compressor units;

• 4 natural gas meter stations, including the Jordan Cove Receipt Meter Station in Coos County, Clarks Branch Delivery Meter Station in Douglas County, Shady Cove Delivery Meter Station in Jackson County, and the adjoining Tule Lake, Russell Canyon, and Buck Butte Meter Stations in Klamath County;

• A gas control communication system, consisting of new radio towers at each meter station and the compressor station, use of an existing communication site owned by Williams Northwest and leased space on seven other existing communication towers;

• Mainline block valves (MLV) at approximately 16 locations along the pipeline; and,

• 5 pig ² launchers and receivers, four co-located with meter stations and the compressor station, and the fifth co-located with a MLV.

² A “pig” is a tool for cleaning and inspecting the inside of a pipeline.

The final EIS has been placed in the public files of the FERC and is available for distribution and public inspection at: Federal Energy Regulatory Commission, Public Reference Room, 888 First Street, NE., Room 2A, Washington, DC 20426, (202) 502-8371.

Volumes 1 and 2 of the final EIS, containing text of the analysis, were printed in hard copy. Volume 3, containing the appendices, was produced as .pdf files on a compact disk (CD) that can be read by a personal computer with a CD-ROM drive. The CD also contains the text of volumes 1 and 2 as .pdf files. A limited number of hard copies and CDs of the final EIS are available from the FERC's Public Reference Room, identified above. This final EIS is also available for public viewing on the FERC's Internet Web site at http://www.ferc.gov, via the eLibrary link.

Copies of the final EIS have been mailed to federal, state, and local agencies; elected officials; Indian tribes and Native American organizations with an interest in the project area; interveners; regional environmental organizations and public interest groups; affected landowners; local libraries and newspapers; and other interested parties. Hard copies of volumes 1 and 2 were mailed to cooperating agencies; other appropriate federal, state, and local government agencies who participated in interagency meetings; intervenors; and individuals that specifically requested hard copies. All others on the mailing list were sent a single CD containing all volumes of the final EIS.

Additional information about the Project is available from the Commission's Office of External Affairs at 1-866-208-FERC (3372). The administrative public record for this proceeding to date is on the FERC Internet Web site (http://www.ferc.gov). Go to Documents & Filings and choose the eLibrary link. Under eLibrary, click on “General Search,” and enter the docket number excluding the last three digits in the field (e.g., CP07-441). Be sure you have selected an appropriate date range. For assistance, please contact FERC Online Support at: FERCOnlineSupport@ferc.gov or toll free at 1-866-208-3676, or for TTY call 202-502-8659. The eLibrary link on the FERC Internet Web site also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to the eSubscription link on the FERC Internet Web site (http:www.ferc.gov/docs-filings/subscription.asp).

Kimberly D. Bose,
Secretary.

[FR Doc. E9-10700 Filed 5-7-09; 8:45 am]

BILLING CODE P